DEPARTMENT OF DEFENSE

Office of the Secretary

[Docket ID: DoD-2013-OS-0119]

Proposed Collection; Comment Request

AGENCY: National Geospatial-Intelligence Agency, DoD.

ACTION: Notice.

In compliance with Section 3506(c)(2)(A) of the Paperwork Reduction Act of 1995, the National Geospatial-Intelligence Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 23, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Corporate Application Branch, User Access Services Division, National Geospatial-Intelligence Agency, 7500 GEOINT Drive, Springfield, VA 22150.

Title; Associated Form; and OMB Number: National Geospatial-Intelligence Agency Enterprise Workforce System, OMB Control Number 0704-TBD.

Needs and Uses: The information collection requirement is necessary to maintain and disseminate employee information to facilitate a variety of NGA's mission-related duties, including activities related to administrative matters, account creation, operations support, access controls, workforce security, training records, expertise, competency management, polygraph information, drug, vision and medical test results, Federal reporting requirements, and domestic and international counterintelligence.

Affected Public: Individuals or households.

Annual Burden Hours: 6000.

Number of Respondents: 12000.

Responses per Respondent: 1.

Average Burden per Response: 30 minutes.

Frequency: On occasion.

SUPPLEMENTARY INFORMATION:

Summary of Information Collection

Respondents provide personal and professional information to the agency for both administrative and mission-related activities. NEWS is the central reference for agency personnel to use to maintain and disseminate employee information to facilitate a variety of NGA's mission-related duties, including activities related to administrative matters, account creation, operations support, access controls, workforce security, training records, expertise, competency management, polygraph information, drug, vision and medical test results, Federal reporting requirements, and domestic and international counterterrorism. Without the system, NGA would not be able to perform administrative activities resulting in inconvenience to the individual and its mission-related duties that could result in not being able to protect agency assets.

Dated: May 20, 2013.
Patricia L. Toppings,
OSD Federal Register, Liaison Officer, Department of Defense.

[FR Doc. 2013-12410 Filed 5-23-13; 8:45 am]

BILLING CODE 5001-06-P